FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 3, 2019.

A. Federal Reserve Bank of Minneapolis (Chris Wangen, Assistant Vice President) 90 Hennepin Avenue, Minneapolis, Minnesota 55480-0291:

1. Jacob Reiter, Cold Spring, Minnesota; to join the Reiter Family shareholder group acting in concert to acquire voting shares of First Bancshares Inc. of Cold Spring, Cold Spring, Minnesota and thereby indirectly acquire voting shares of Granite Community Bank, Cold Spring, Minnesota.

2. Joseph Naiberg, Andover, Minnesota, and Kenneth Osowski, Lino Lakes, Minnesota; as trustees of the Dennis Frandsen 2014 Children's Trust Agreement and the Dennis Frandsen 2015 Grandchildren's Trust Agreement; to acquire voting shares of Frandsen Financial Corporation, Arden Hills, Minnesota, and thereby indirectly acquire voting shares of Frandsen Bank and Trust, Lonsdale, Minnesota.

B. Federal Reserve Bank of Kansas City (Dennis Denney, Assistant Vice President), 1 Memorial Drive, Kansas City, Missouri 64198-0001:

1. John D. Gross, Pine Bluffs, Wyoming; to acquire voting shares of Commercial Bancorp, and thereby indirectly acquire shares of Farmers State Bank, both in Pine Bluffs, Wyoming.

In addition, Gregory A. Gross, Patrick W. Gross, Scott Gross, and Clayton, Gross, all of Pine Bluffs, Wyoming; and Paula L. Gross, Cheyenne, Wyoming, to be approved as members of the Gross Family Group, and to acquire shares of Commercial Bancorp.

Board of Governors of the Federal Reserve System, August 13, 2019.
Yao-Chin Chao,
Assistant Secretary of the Board.

[FR Doc. 2019-17678 Filed 8-16-19; 8:45 am]

BILLING CODE P